DEPARTMENT OF LABOR

Occupational Safety and Health Administration

29 CFR Parts 1910, 1915, 1917, 1918, and 1926

[Docket No. OSHA-2025-0020]

RIN 1218-AD55

TITLE: 1,3-Butadiene

AGENCY: Occupational Safety and Health Administration (OSHA), Labor.

ACTION: Proposed rule; request for comments.

SUMMARY: This proposed rule revises some substance-specific respirator requirements to allow different types of respirators to be used under OSHA's 1,3-Butadiene standard and better aligns this standard with OSHA's respiratory protection standard.

DATES: Comments and other information, including requests for a hearing, must be received on or before September 2, 2025.

Informal public hearing: OSHA will schedule an informal public hearing on the rule if requested during the comment period. If a hearing is requested, the location and date of the hearing, procedures for interested parties to notify the agency of their intention to participate, and procedures for participants to submit their testimony and documentary evidence will be announced in the Federal Register.

ADDRESSES:

Written comments: You may submit comments and attachments, identified by Docket No. OSHA-2025-0020, electronically at https://www.regulations.gov, which is the Federal e-Rulemaking Portal. Follow the instructions online for making electronic submissions.

Instructions: All submissions must include the agency's name and the docket number for this rulemaking (Docket No. OSHA-2025-0020). When uploading multiple attachments to regulations.gov, please number all of your attachments because regulations.gov will not automatically number the attachments. This will be very useful in identifying all attachments. For example, Attachment 1—title of your document, Attachment 2—title of your document, Attachment 3—title of your document. For assistance with commenting and uploading documents, please see the Frequently Asked Questions on https://www.regulations.gov.

All comments, including any personal information you provide, are placed in the public docket without change and may be made available online at https://www.regulations.gov. Therefore, OSHA cautions commenters about submitting information they do not want made available to the public, or submitting materials that contain personal information (either about themselves or others), such as Social Security Numbers and birthdates.

Docket: The docket for this rulemaking (Docket No. OSHA-2025-0020) is available at https://www.regulations.gov, the Federal eRulemaking Portal. Most exhibits are available at https://www.regulations.gov; some exhibits (e.g., copyrighted material) are not available to download from that web page. However, all materials in the dockets are available for inspection at the OSHA Docket Office.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION:

Table of Contents

I. Executive Summary

II. Legal Authority and Preliminary Findings

III. Events Leading to the Proposed Rule

IV. Summary and Explanation of the Proposed Requirements

V. Economic Analysis

VI. Additional Requirements

VII. Authority and Signature

VIII. Regulatory Text

I. Executive Summary

This proposed rule is intended to provide greater compliance flexibility and clarify the policies and procedures employers must follow when implementing a respiratory protection program in conjunction with OSHA's 1,3-Butadiene standard (29 CFR 1910.1051). OSHA is proposing to revise some respirator-related provisions where they are unnecessarily prescriptive, which would result in employers having greater flexibility in the respirators they select for exposed workers, while providing equivalent worker protection. This proposal is also consistent with OSHA's intent, when it published the revised Respiratory Protection standard (29 CFR 1910.134), to use it as a foundation for respirator selection in substance-specific standards.

Additionally, OSHA believes that this proposed rule appropriately incorporates advances in technology, which have made some provisions of the 1,3-Butadiene standard outdated, and would allow employers to take advantage of future technological advances. This proposed standard is intended to account for modern knowledge and technology and to streamline the selection of respirators.

II. Legal Authority and Preliminary Findings

The purpose of the Occupational Safety and Health Act (29 U.S.C. 651 et seq.) (“the Act” or “the OSH Act”) is “to assure so far as possible every working man and woman in the Nation safe and healthful working conditions and to preserve our human resources” (29 U.S.C. 651(b)). To achieve this goal, Congress authorized the Secretary of Labor (“the Secretary”) to promulgate standards to protect workers, including the authority “to set mandatory occupational safety and health standards applicable to businesses affecting interstate commerce” (29 U.S.C. 651(b)(3); see also 29 U.S.C. 654(a)(2) (requiring employers to comply with OSHA standards), 29 U.S.C. 655(a) (authorizing summary adoption of existing consensus and established federal standards within two years of the Act's enactment), 29 U.S.C. 655(b) (authorizing promulgation, modification or revocation of standards pursuant to notice and comment), and 29 U.S.C. 655(b)(7) (authorizing OSHA to include among a standard's requirements labeling, monitoring, medical testing, and other information-transmittal provisions)). An occupational safety and health standard is “. . . a standard which requires conditions, or the adoption or use of one or more practices, means, methods, operations, or processes, reasonably necessary or appropriate to provide safe or healthful employment and places of employment” (29 U.S.C. 652(8)). The Secretary may also issue regulations requiring employers to keep records regarding their activities relating to the Act, as well as records of work-related deaths, injuries, and illnesses (29 U.S.C. 657(c)(1)-(2)).

Before OSHA may promulgate a health or safety standard, it must find that a standard is reasonably necessary or appropriate within the meaning of section 652(8) of the OSH Act, which OSHA did here in 1971 when it published the 1,3-Butadiene standard (see 61 FR 56746). The Supreme Court, in its decision on OSHA's benzene standard, interpreted OSHA's obligation under section 652(8) as requiring it to evaluate “whether significant risks are present and can be eliminated or lessened by a change in practices” (Indus. Union Dep't, AFL-CIO v. Am. Petroleum Inst., 448 U.S. 607, 642 (1980) (plurality opinion)). OSHA originally adopted a consensus standard to regulate 1-3-Butadiene in 1971 and later revised it because the agency determined that at the permissible exposure limit set in 1971 there was still significant risk to employees (61 FR 56746). When, as here, OSHA has previously determined that its standard substantially reduces a significant risk, it is unnecessary for the agency to make additional findings on risk for every provision of that standard (see, e.g., Pub. Citizen Health Research Grp. v. Tyson, 796 F.2d 1479, 1502 n.16 (D.C. Cir. 1986) (rejecting the argument that OSHA must “find that each and every aspect of its standard eliminates a significant risk”)). Rather, once OSHA makes a general significant risk finding in support of a standard, the next question is whether a particular requirement is reasonably related to the purpose of the standard as a whole (see Asbestos Info. Ass'n/N. Am. v. Reich, 117 F.3d 891, 894 (5th Cir. 1997); Forging Indus. Ass'n v. Sec'y of Labor, 773 F.2d 1436, 1447 (4th Cir. 1985); United Steelworkers of Am., AFL-CIO-CLC v. Marshall, 647 F.2d 1189, 1237-38 (D.C. Cir. 1980) (“Lead I”)). Therefore, while OSHA is not making a preliminary finding of significant risk for this proposed rule, the agency has made a preliminary determination that the proposed changes are reasonably related to the purpose of the 1,3-Butadiene standard as a whole.

A standard is technologically feasible if the protective measures it requires already exist, can be brought into existence with available technology, or can be created with technology that is reasonably expected to be developed (see Am. Iron and Steel Inst. v. OSHA, 939 F.2d 975, 980 (D.C. Cir. 1991)). Courts have also interpreted technological feasibility to mean that a typical firm in each affected industry or application group will reasonably be able to implement the requirements of the standard in most operations most of the time (see, e.g., Public Citizen v. OSHA, 557 F.3d 165, 170-71 (3d Cir. 2009) (citing Lead I at 1272)).

This proposed rule would not substantially modify existing requirements for respiratory protection in workplaces; nor would it create new requirements. All employers in compliance with the existing standard would also be in compliance with the revised standard. Therefore, OSHA has made a preliminary determination that the proposed rule would be technologically feasible.

In evaluating economic feasibility, OSHA must consider the average cost of compliance in an industry rather than costs for individual employers. In its economic analyses, OSHA “must construct a reasonable estimate of compliance costs and demonstrate a reasonable likelihood that these costs will not threaten the existence or competitive structure of an industry, even if it does portend disaster for some marginal firms” (Am. Iron and Steel Inst., 939 F.2d at 980, quoting Lead I at 1272). OSHA has made a preliminary finding that this proposal is economically feasible because it is deregulatory and is expected to reduce costs for employers. OSHA's economic analysis is presented in Section V.

The Administrative Procedures Act directs agencies to include in each rule adopted “a concise general statement of [the rule's] basis and purpose” (5 U.S.C. 553(c)); cf. 29 U.S.C. 655(e) (requiring the Secretary to publish a “statement of reasons” for any standard promulgated)). This notice satisfies this concise statement requirement.

III. Events Leading to the Proposed Rule

OSHA adopted its first 1,3-Butadiene standard in 1971 (see 61 FR 56746). OSHA also has a general Respiratory Protection standard, 29 CFR 1910.134, which it first promulgated in 1971 (39 FR 9835). OSHA published a revised Respiratory Protection standard on January 8, 1998 (63 FR 1152). The Respiratory Protection standard contains worksite-specific requirements for program administration, as well as procedures for respirator selection, employee training, fit testing, medical evaluation, and respirator use, among other provisions. OSHA noted that the revised standard was to “serve as a `building block' standard with respect to future standards that may contain respiratory protection requirements” (63 FR 1265). In 2006, OSHA revised the Respiratory Protection standard again to incorporate assigned protection factors (APFs) in the respirator selection process (71 FR 50122-01).

Several OSHA standards regulating exposure to toxic substances and harmful physical agents, including the 1,3-Butadiene standard, require compliance with many provisions of 29 CFR 1910.134. However, when revising the respirator rule, the Agency decided to retain several special respirator selection provisions in the existing substance-specific standards. In this regard, OSHA noted that the respirator selection requirements retained in the substance-specific standards were developed in rulemakings to provide protection against a hazardous characteristic or condition unique to the regulated substance. Consequently, OSHA felt that preserving these provisions in the individual substance-specific standards would maintain the level of respiratory protection afforded to employees.

In this proposal, OSHA is revisiting some of those determinations; the agency now believes that there are additional ways that substance-specific standards can rely on 29 CFR 1910.134 without compromising employee safety. The purpose of revising the respirator-related provisions of OSHA's 1,3-Butadiene standard is to conform them, to the extent possible, with other substance-specific standards and to the revised 29 CFR 1910.134 in general. The proposed updates will improve the 1,3-Butadiene standard because it will now refer to the APFs in the Respiratory Protection standard, which is based on current technology and practices for respirator use. This revised standard is intended to take account of new knowledge and technology.

OSHA expects that the rule would ultimately reduce the compliance burden on the regulated community, without compromising worker safety. Therefore, OSHA believes this proposed rule is consistent with Executive Order (E.O.) 14219, “Ensuring Lawful Governance and Implementing the President's `Department of Government Efficiency' Deregulatory Initiative,” E.O. 14192, “Unleashing Prosperity Through Deregulation,” and the goal of removing regulations that harm the national interest by impeding technological innovation or private enterprise and entrepreneurship.

IV. Summary and Explanation of the Proposed Requirements

OSHA is proposing to revise paragraph (h) of its general industry 1,3-Butadiene standard (29 CFR 1910.1051) to reduce compliance burdens, allow for the use of more up-to-date technology, and improve the comprehensibility of the requirements for respiratory protection programs. These revisions would simplify compliance for employers by removing requirements in 1910.1051 that are duplicative with the requirements in 1910.134. The proposed revisions would also provide more compliance options by removing unnecessary restrictions on respirator selection where another equally protective option exists. Finally, these revisions would also conform this standard, to the extent possible, to other substance-specific standards and to 29 CFR 1910.134, which would simplify review of these regulations. The Agency preliminarily concludes, therefore, that updating these rules is consistent with the goal of facilitating the use of new technology and reducing undue burden.

OSHA has preliminarily determined that paragraphs (h)(1)(i) through (iv) of the 1,3-Butadiene standard unnecessarily duplicate the general provisions covered by 1910.134(a). The agency is therefore proposing to remove those paragraphs and add a cross reference to 1910.134(a)(2) in paragraph (h)(1). Employers in compliance with the current version of 1910.1051(h)(1) would not have to change any of their practices to remain in compliance with the changes OSHA is proposing.

OSHA is also proposing to remove many of the respiratory selection criteria from 1910.1051(h)(3)(i) and Table 1. Specifically, OSHA is proposing to remove the phrase “appropriate respirators from Table 1 of this section” from paragraph (h)(3)(i) and instead include “and provide to employees, the appropriate respirators specified in paragraph (d)(3)(i)(A) of 29 CFR 1910.134” because the requirements of Table 1 duplicate the APF factors in 1910.134(d)(3)(i)(A) and would not allow for the use of new types of respirators with equivalent APFs. Additionally, in Table 1, OSHA is proposing to remove the specific types of respirators from each row, while leaving in the type of cartridge and canister with which the respirator must be equipped, along with the change schedules for the cartridge or canister where that is specified. Paragraphs (h)(2)(ii) and (h)(2)(iii) of the 1,3-Butadiene standard include language that makes selection of replacement schedules dependent on the “class of respirators listed in Table 1” so in the portions of the table where cartridge or canister changeout schedules are maintained, OSHA is also keeping an APF requirement so that there is a “class of respirator” listed in Table 1. For rows where there is no cartridge or canister changeout schedule, OSHA is proposing to delete those rows in their entirety. For the proposed version of Table 1, see Section VIII.

OSHA has preliminarily determined that these requirements unnecessarily duplicate the requirements in the Respiratory Protection standard, at 1910.134(d)(1)(i) and (ii) and 1910.134(d)(3)(i)(A), which employers are already required to follow. OSHA believes that these changes will improve consistency with other substance specific standards and allow employers to select from a wider range of equally protective respirators based on the APF of the respirator. OSHA does not intend for these changes to add to or change the regulatory burden on employers; actions that were in compliance with the requirements in 1910.1051(h)(3)(i) and Table 1 of the 1,3-Butadiene standard would also be in compliance with the standard as revised. However, this change does expand the options available for compliant respiratory protection based on exposure levels and APFs.

Additionally, OSHA is proposing to remove the sentence contained in the notes to Table 1 of the 1,3-Butadiene standard that requires the use of full facepiece respiratory protection when eye irritation is anticipated. OSHA has preliminarily determined that paragraph (i) of the standard contains requirements for the use of personal protective equipment to prevent eye contact and limit dermal exposure to 1,3-butadiene that are equally as protective as the provision in the notes to Table 1. This would provide greater compliance flexibility to employers who would be able to provide half mask respirators along with appropriate eye and face protection when employees are experiencing eye irritation.

OSHA is also considering (but not proposing) removing the requirements for specific schedule changes for filter cartridges and canisters that are in Table 1 of the 1,3-Butadiene standard and, in paragraph (h)(2)(i), removing the exception for paragraphs (d)(3)(iii)(B)(1) and (2) of the 1910.134 standard, resulting in employers needing to comply with the generic cartridge and canister change schedules in the Respiratory Protection standard. That provision in the Respiratory Protection standard requires that an air-purifying respirator be equipped with an end-of-service-life indicator (ESLI) certified by NIOSH for the contaminant or, if there is no ESLI appropriate for the working conditions, the employer must implement a change schedule for canisters and cartridges based on objective information or data that would ensure canisters and cartridges would be changed before the end of their service life. The employer would also need to include the basis for their determination in their respirator program. Essentially, if OSHA made this change it would result in a performance-based approach to cartridge and canister changes, rather than a prescriptive approach. This would also result in Table 1 being deleted entirely if OSHA removed both the respirator specifications as proposed and the changeout schedules that it is currently proposing to leave in.

OSHA notes that employers are currently permitted to establish alternative schedules for filter replacement based on 90% of the service life (paragraph (h)(2)(iii) of the 1,3-Butadiene standard), and that the default replacement schedule outlined in Table 1 of the 1,3-Butadiene standard is based on worse-case scenario exposure conditions found in the workplace, since this provides the greatest margin for safety in using air purifying respirators with 1,3-Butadiene. OSHA questions whether the removal of Table 1 and requiring employers to rely on the procedures in 1910.134(d)(3)(iii)(B)(1) and (2), specifically its end of service life indicators (ESLI) or performance-based criteria, would be equally as protective while providing employers with increased options for compliance.

OSHA recognizes that adopting these revisions will also result in the revision of the respiratory protection requirements in OSHA's shipyard employment, marine terminals, longshoring, and construction industry standards for 1,3-butadiene (see 29 CFR 1915.1000 (Table Z), 29 CFR 1926.55 (Table 1), 29 CFR 1917.1, and 29 CFR 1918.1, which apply the requirements in 29 CFR 1910.1051 to construction, longshoring, marine terminals, and shipyard work). OSHA requests comment regarding whether there are any considerations that are unique to the use of respirators for protection against 1,3-butadiene hazards in shipyards, marine terminals, longshoring, or construction that OSHA should consider when finalizing this proposal. OSHA is in the process of appointing members to the Advisory Committee on Construction Safety and Health (ACCSH). The agency intends to present this proposed rule to ACCSH once that process is complete. The agency will put the Committee's recommendations on the OSHA website and in the docket for this proposed rule prior to the close of the comment period to allow the public to provide comments on those recommendations.

OSHA requests comments on the following issues:

1. Are there any concerns that making the changes described in this proposal will decrease worker safety?

2. Are there alternative approaches OSHA should consider?

3. Are there any aspects of the proposed cross references to 1910.134 that will insufficiently capture the existing provisions OSHA is proposing to remove in the 1,3-Butadiene standard?

3. Should OSHA remove the filter cartridges and canisters change schedule requirements under Table 1? Would following the performance-based approach in 1910.134 sufficiently protect workers and would it provide significant cost savings or other benefits?

V. Economic Analysis

This proposed rule would remove redundant requirements and expand compliance options for employers in the 1,3-Butadiene standard, 29 CFR 1910.1051, and therefore OSHA has preliminarily concluded that there would be no additional costs imposed by the proposed revisions. OSHA also anticipates that there may be some cost savings associated with this rule, including a reduction of the burden associated with complying with and reviewing unnecessarily duplicative regulations. Because this rule would impose no new costs, OSHA has made a preliminary determination that the rule would be economically feasible.

Based on the Supporting Statement for the Information Collection Request for the 1,3-Butadiene standard, OSHA estimates that there are 53 employees using respirators for monitoring and emergency response activities involving exposure to 1,3-butadiene. Assuming 25 percent of those employees will switch from a full facepiece respirator to a hooded continuous flow respirator, which will eliminate fit testing costs for those employees,¹ OSHA estimates that this could result in about $1,100 in savings annually (or about $8,000 over 10 years at a 3 present discount rate).²

¹ See Docket ID OSHA-2012-0027-0014 for additional detail.

² See Docket ID OSHA-2012-0027-0014 for information on employee and wage rate estimates.

OSHA is seeking comments and data on this preliminary analysis, including on the following questions:

1. How much do employers expect to save based on the increased flexibility in respirator selection?

2. How many employees would employers expect to use helmet or hooded style respirators instead of a full facepiece under the proposed revisions?

3. Are there any other savings for employers that would result from the proposed change?

4. Are there any benefits for worker protection that can be anticipated from this proposed change?

5. Are there any costs for employers that would result from this change that OSHA has not considered?

6. Would the savings to employers outside of general industry be similar to what OSHA has estimated for general industry employers?

A. Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

OSHA reviewed this proposed rule under the provisions of the Regulatory Flexibility Act. This rule would eliminate burdensome regulations. Therefore, OSHA initially concludes that the impacts of the revisions would not have a “significant economic impact on a substantial number of small entities,” and that the preparation of an IRFA is not warranted. OSHA will transmit this certification and supporting statement of factual basis to the Chief Counsel for Advocacy of the Small Business Administration for review under 5 U.S.C. 605(b).

B. Review Under Executive Order 12866

E.O. 12866, “Regulatory Planning and Review” (58 FR 51735 (Oct. 4, 1993)), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to the Office of Information and Regulatory Affairs (OIRA) for review. OIRA has determined that this proposed rule would not constitute a “significant regulatory action” under section 3(f) of E.O. 12866. Accordingly, this proposal was not submitted to OIRA for review under E.O. 12866.

VI. Additional Requirements

A. Requirements for States With OSHA-Approved State Plans

Under section 18 of the OSH Act (29 U.S.C. 651 et seq.), Congress expressly provides that States may adopt, with Federal approval, a plan for the development and enforcement of occupational safety and health standards that are “at least as effective” as the Federal standards in providing safe and healthful employment and places of employment (29 U.S.C. 667). OSHA refers to these OSHA-approved, State-administered occupational safety and health programs as “State Plans.” ³

³ Of the 29 States and U.S. territories with OSHA-approved State Plans, 22 cover public and private-sector employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. The remaining six States and one U.S. territory cover only State and local government employees: Connecticut, Illinois, Maine, Massachusetts, New Jersey, New York, and the Virgin Islands.

When Federal OSHA promulgates a new standard or a more stringent amendment to an existing standard, State Plans must either amend their standards to be identical to, or “at least as effective as,” the new Federal standard or amendment, or show that an existing State Plan standard covering this issue is “at least as effective” as the new Federal standard or amendment (29 CFR 1953.5(a)). However, when OSHA promulgates a new standard or amendment that does not impose additional or more stringent requirements than an existing standard, State Plans do not have to amend their standards, although they may opt to do so. OSHA has preliminarily determined this proposed rule does not impose additional or more stringent requirements than the existing standard, and therefore State Plans are not required to amend their standards. OSHA seeks comment on this assessment of its proposal.

B. OMB Review Under the Paperwork Reduction Act of 1995

The Paperwork Reduction Act (PRA) defines “collection of information” to mean “the obtaining, causing to be obtained, soliciting, or requiring the disclosure to third parties or the public, of facts or opinions by or for an agency, regardless of form or format” (44 U.S.C. 3502(3)(A)). Under the PRA, a Federal agency cannot conduct or sponsor a collection of information unless it is approved by OMB under the PRA and the agency displays a currently valid OMB control number (44 U.S.C. 3507). Also, notwithstanding any other provisions of law, no person shall be subject to penalty for failing to comply with a collection of information if the collection of information does not display a currently valid OMB control number (44 U.S.C. 3512(a)(1)). The process for OMB approval is found in 5 CFR part 1320.

This proposed rule would impose no new information collection requirements. Because the revisions are deregulatory and affect only minor changes to the existing information collections in the 1,3-Butadiene standard (OMB Control Number 1218-0170), OMB has waived the requirements of 5 CFR part 1320 and approved the modified Information Collection Request (ICR) under existing OMB Control Number 1218-0170 (see 5 CFR 1320.18(d)).

C. Environmental Impacts/National Environmental Policy Act (NEPA)

OSHA has reviewed this proposed rule according to the National Environmental Policy Act of 1969 (NEPA) (42 U.S.C. 4321 et seq.), as amended by the Fiscal Responsibility Act of 2023 (Pub. L. 118-5, 321, 137 Stat. 10), and the Department of Labor's NEPA procedures (29 CFR part 11). OSHA has determined that this proposal would have no impact on the quality of the human environment.

D. Other Statutory and Executive Order Considerations

OSHA has considered its obligations under the Unfunded Mandates Reform Act (UMRA) (2 U.S.C. 1501 et seq.) and the Executive Orders on Consultation and Coordination With Indian Tribal Governments (E.O. 13175, 65 FR 67249 (Nov. 6, 2000)), Federalism (E.O. 13132, 64 FR 43255 (Aug. 10, 1999)), and Protection of Children From Environmental Health Risks and Safety Risks (E.O. 13045, 62 FR 19885 (Apr. 23, 1997)). Given that this is a proposed deregulatory action that involves the removal of requirements, that OSHA does not foresee economic impacts of $100 million or more, and that the action does not constitute a policy that has federalism or tribal implications, OSHA has determined that no further agency action or analysis is required to comply with these statutes and executive orders. Furthermore, OSHA has determined that this proposal is consistent with the policies and directives outlined in E.O. 14192, “Unleashing Prosperity Through Deregulation” and is an Executive Order 14192 deregulatory action.

List of Subjects in 29 CFR Part 1910

Assigned protection factors, Airborne contaminants, Health, Occupational safety and health, Respirators, Respirator selection

VII. Authority and Signature

This document was prepared under the direction of Amanda Laihow, Acting Assistant Secretary of Labor for Occupational Safety and Health. It is issued under the authority of sections 4, 6, and 8 of the Occupational Safety and Health Act of 1970 (29 U.S.C. 653, 655, and 657), 5 U.S.C. 553, Secretary of Labor's Order No. 8-2020 (85 FR 58393), and 29 CFR part 1911.

Dated: June 20, 2025.
Amanda Laihow,
Acting Assistant Secretary of Labor for Occupational Safety and Health.

VIII. Regulatory Text

Proposed Amendments

For the reasons set forth in the preamble, OSHA is amending 29 CFR part 1910 as follows:

PART 1910—OCCUPATIONAL SAFETY AND HEALTH STANDARDS

Subpart Z—Toxic and Hazardous Substances

1. The authority for 29 CFR 1910 subpart Z is revised to read as follows:

Authority: 33 U.S.C. 941; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008); 5-2007 (72 FR 31160), 4-2010 (75 FR 55355), 1-2012 (77 FR 3912), or 8-2020 (85 FR 58393); 29 CFR part 1911; and 5 U.S.C. 553, as applicable.

All of subpart Z issued under 29 U.S.C. 655(b), except those substances that have exposure limits listed in Tables Z-1, Z-2, and Z-3 of § 1910.1000. The latter were issued under 29 U.S.C. 655(a).

Section 1910.1000, Tables Z-1, Z-2 and Z-3 also issued under 5 U.S.C. 553, but not under 29 CFR part 1911 except for the arsenic (organic compounds), benzene, cotton dust, and chromium (VI) listings.

Section 1910.1001 also issued under 40 U.S.C. 3704 and 5 U.S.C. 553.

Section 1910.1002 also issued under 5 U.S.C. 553, but not under 29 U.S.C. 655 or 29 CFR part 1911.

Sections 1910.1018, 1910.1029, and 1910.1200 also issued under 29 U.S.C. 653.

Section 1910.1030 also issued under Public Law 106-430, 114 Stat. 1901.

Section 1910.1201 also issued under 49 U.S.C. 1801-1819 and 5 U.S.C. 553.

2. § 1910.1051 is revised as follows:

a. Revise and republish paragraphs (h)(1), (h)(3)(i) and Table 1

The revisions and additions read as follows:

(h) * * *

(1) General. For employees who use respirators required by this section, the employer must provide each employee an appropriate respirator that complies with the requirements of this paragraph. Respirators must be used when the employer determines that it is necessary to protect the health of an employee as required under 29 CFR 1910.134(a)(2).

(3) * * *

(i) The employer must select and provide to employees the appropriate respirators specified in paragraph (d)(3)(i)(A) of 29 CFR 1910.134.

Table 1—Minimum Requirements for Respiratory Protection for Airborne BD
Concentration of airborne BD (ppm) or condition of use | Minimum required respirator
Less than or equal to 5 ppm (5 times PEL) | (a) A respirator with a minimum assigned protection factor (APF) of 10, equipped with approved BD or organic vapor cartridges or canisters. Cartridges or canisters shall be replaced every 4 hours.
Less than or equal to 10 ppm (10 times PEL) | (a) A respirator with a minimum APF of 10, equipped with approved BD or organic vapor cartridges or canisters. Cartridges or canisters shall be replaced every 3 hours.
Less than or equal to 25 ppm (25 times PEL) | (a) A respirator with a minimum APF of 25, equipped with approved BD or organic vapor cartridges or canisters. Cartridges or canisters shall be replaced every 2 hours.
Less than or equal to 50 ppm (50 times PEL) | (a) A respirator with a minimum APF of 50, equipped with approved BD or organic vapor cartridges or canisters. Cartridges or canisters shall be replaced every (1) hour.
Notes:
Respirators approved for use in higher concentrations are permitted to be used in lower concentrations.

[FR Doc. 2025-11630 Filed 6-30-25; 8:45 am]

BILLING CODE 4510-26-P